DEPARTMENT OF THE INTERIOR

Bureau of Land Management

Notice of Public Meeting: Resource Advisory Council to the Boise District, Bureau of Land Management, U.S. Department of the Interior

AGENCY: Bureau of Land Management, U.S. Department of the Interior.

ACTION: Notice of public meeting.

SUMMARY: In accordance with the Federal Land Policy and Management Act (FLPMA) and the Federal Advisory Committee Act of 1972 (FACA), the U.S. Department of the Interior, Bureau of Land Management (BLM) Boise District Resource Advisory Council (RAC), will meet as indicated below.

DATES: The meeting will be held August 23, 2005, beginning at 9 a.m. and adjourning at 4 p.m. at the Ashley Inn, located at 500 N. Main St., Cascade, ID. Public comment periods will be held after topics on the agenda.

FOR FURTHER INFORMATION CONTACT: MJ Byrne, Public Affairs Officer and RAC Coordinator, BLM Boise District, 3948 Development Ave., Boise, ID 83705, Telephone (208) 384-3393.

SUPPLEMENTARY INFORMATION: The 15-member Council advises the Secretary of the Interior, through the BLM, on a variety of planning and management issues associated with public land management in southwestern Idaho. At this meeting, the following actions will occur/topics will be discussed:

• Hot Topics;

• Three Field Office Managers and District Fire Manager provide updates on current issues and planned activities in their Field Offices and the District;

• District Fire Manager, Andy Delmas provides a review of the fires that have occurred in 2005, including an assessment of damage to natural resources, wildlife and wildlife habitat, sensitive species, areas of critical environmental concern including LEPA (Lepidium Papilliferum)

• Subcommittee Reports:

○ Rangeland Standards and Guidelines;

○ Briefing on the new grazing regulations,

○ Briefing on the status of assessments, appeals and litigation,

○ OHV & Transportation Management;

○ Briefing on development of District Travel Management Plan,

○ Briefing on DOI Listening Sessions held on proposed Recreation RAC's.

○ Sage Grouse Habitat Management, and;

○ Briefing on current activities of the Owyhee Sage Grouse Working Group,

○ Resource Management Plans,

○ Overview of changes to draft alternatives for the Snake River Birds of Prey National Conservation Area Resource Management Plan since April presentation to RAC. Discussion and feedback.

Agenda items and location may change due to changing circumstances, including wildfire emergencies. All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below. Expedited publication is requested to give the public adequate notice.

Dated: July 28, 2005.
Jerry Taylor,
Acting District Manager.

[FR Doc. 05-15272 Filed 8-2-05; 8:45 am]

BILLING CODE 4310-GG-P